DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, on the next business day following the plat acceptance date.

ADDRESSES: A copy of the plats may be obtained from the Land Office at the California State Office, Bureau of Land Management, 2800 Cottage Way, Sacramento, California 95825, upon required payment.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various agencies; the Bureau of Land Management, Bureau of Indian Affairs, National Park Service, US Forest Service or the Army Corps of Engineers. A person or party who wishes to protest against a survey must file a notice that they wish to protest (at the above address) with the California State Director, Bureau of Land Management, Sacramento, California. The lands surveyed are:

Humboldt Meridian, California

T. 3 S., R. 2 W., accepted September 12, 2003.

T. 3 S., R. 2 E., accepted September 29, 2003.

T. 4 S., R. 7 E., accepted March 15, 2004.

T. 5 S., R. 7 E., accepted April 7, 2004.

T. 5 N., R. 7-8 E., accepted September 28, 2004.

T. 3 N., R.8 E., accepted December 13, 2004.

T. 10 N., R. 4 E., accepted February 23, 2005.

T. 4 N., R. 2 W., accepted March 10, 2005.

T. 4 N., R. 4 E., accepted June 22, 2005.

T. 9 N., R 3 E., accepted September 15, 2005.

T. 10 N., R. 3 E., accepted September 20, 2005.

T. 16 N., R. 7 E., accepted September 29, 2005.

T. 4 S., R.2 E., accepted April 5, 2006.

T. 10 N., R. 3 E., accepted September 14, 2006.

T. 10 N., R. 3 E., accepted September 14, 2006.

T. 11 N., R. 3 E., accepted September 14, 2006.

T. 10 N., R.6 E., accepted October 2, 2006.

T. 9 N., R. 4 E., accepted November 7, 2006.

T. 12 N., R. 6 E., accepted December 4, 2006.

T. 14 N., R. 6 E., accepted December 11, 2006.

T. 13 N., R.1 E., accepted January 8, 2007.

T. 11 N., R. 6 E., accepted February 14, 2007.

T. 11 N., R. 3 E., accepted April 26, 2007.

T. 11 N., R. 3 E., accepted May 2, 2007.

T. 6 N., R.1 W., accepted May 3, 2007.

T. 7 N., R.1 E., accepted May 7, 2007.

T. 8 N., R.1 W., accepted May 7, 2007.

T. 3 S., R. 1 W., accepted March 6, 2008.

T. 13 N., R. 1 E., accepted March 20, 2008.

T. 9 N., R. 4 E., accepted April 8, 2008

T. 6 N., R. 1 W., accepted July 11, 2008.

T. 4 N., R. 2 W., accepted August 4, 2008.

T. 5 N., R. 7 E., accepted September 9, 2008.

T. 5 N., R. 8 E., accepted September 9, 2008.

T. 9 N., R. 4 E., accepted March 17, 2009.

T. 11 N., R. 2 E., accepted March 26, 2009.

T. 11 N., R. 3 E., accepted March 31, 2009.

T. 5 S., R. 7 E., accepted January 7, 2010.

T. 11 N., R. 3 E., accepted March 3, 2010.

Mount Diablo Meridian, California

T. 10 N., R. 18 E., accepted September 30, 2002.

T. 25 N., R. 17 E., accepted November 14, 2002.

T. 33 N., R. 5 W., accepted November 14, 2002.

T. 21 N., R. 9 E., accepted November 18, 2002.

T. 19-20 N., R. 10 E., accepted November 22, 2002.

T. 11 S., R. 20 E., accepted November 25, 2002.

T. 30 N., R. 11 E., accepted December 17, 2002.

T. 6 N., R. 12 E., accepted December 24, 2002.

T. 10 S., R. 34 E., accepted January 31, 2003.

T. 22 N., R. 8 W., accepted January 31, 2003.

T. 5 N., R. 25 E., accepted February 21, 2003.

T. 36 N., R. 8 W., accepted March 17, 2003.

T. 39 N., R. 5 E., accepted March 17, 2003.

T. 1 S., R. 14 E., accepted March 20, 2003.

T. 32 N., R. 5 W., accepted April 4, 2003.

T. 5 N., R. 31 E., accepted July 10, 2003.

T. 19 S., R. 34 E., accepted August 20, 2003.

T. 19 S., R. 35 E., accepted August 20, 2003.

T. 20 S., R. 34 E., accepted August 20, 2003.

T. 20 S., R. 36 E., accepted August 20, 2003.

T. 21 S., R. 32 E., accepted August 20, 2003.

T. 21 S., R. 33 E., accepted August 20, 2003.

T. 21 S., R. 35 E., accepted August 20, 2003.

T. 21 S., R. 36 E., accepted August 20, 2003.

T. 21 S., R. 37 E., accepted August 20, 2003.

T. 22 S., R. 35 E., accepted August 20, 2003.

T. 22 S., R. 37 E., accepted August 20, 2003.

T. 23 S., R. 37 E., accepted August 20, 2003.

T. 25 S., R. 33 E., accepted August 20, 2003.

T. 25 S., R. 34 E., accepted August 20, 2003.

T. 25 S., R. 35 E., accepted August 20, 2003.

T. 25 S., R. 37 E., accepted August 20, 2003.

T. 27 S., R. 34 E., accepted August 20, 2003.

T. 29 N., R. 15 E., accepted August 20, 2003.

T. 9 S., R. 22 E., accepted September 10, 2003.

T. 16 N., R. 9 E., accepted September 29, 2003.

T. 20 S., R. 31 E., accepted September 29, 2003.

T. 21 S., R. 32 E., accepted September 29, 2003.

T. 22 S., R. 32 E., accepted September 29, 2003.

T. 31 N., R. 13 E., accepted September 29, 2003.

T. 31 N., R. 13 E., accepted September 29, 2003.

T. 31 N., R. 5 E., accepted September 29, 2003.

T. 9 N., R. 13 W., accepted September 29, 2003.

T. 20 S., R. 31 E., accepted October 21, 2003.

T. 5 N., R. 21 E., accepted November 3, 2003.

T. 25 S., R. 36-37 E., accepted November 7, 2003.

T. 2 N., R. 25 E., accepted November 7, 2003.

T. 9 N., R. 20 E., accepted November 24, 2003.

T. 9 N., R. 21 E., accepted December 12, 2003.

T. 12 S., R. 24 E., accepted December 19, 2003.

T. 4 S., R. 27 E., accepted January 28, 2004.

T. 4 N., R. 26 E., accepted January 29, 2004.

T. 20 S., R. 27 E., accepted February 12, 2004.

T. 9 S., R. 20 E., accepted February 24, 2004.

T. 21 S., R. 30 E., accepted February 24, 2004.

T. 20 N., R. 11 W., accepted April 16, 2004.

T. 16 N., R. 9 W., accepted April 23, 2004.

T. 16 N., R. 8 W., accepted April 29, 2004.

T. 4 S., R. 18 E., accepted May 6, 2004.

T. 36 N., R. 1 E., accepted May 20, 2004.

T. 36 N., R. 2 E., accepted May 20, 2004.

T. 4 S., R. 18 E., accepted May 24, 2004.

T. 39 N., R. 4 E., accepted June 9, 2004.

T. 38 N., R. 4 E., accepted June 9, 2004.

T. 18 S., R. 2 E., accepted July 8, 2004.

T. 19 S., R. 3 E., accepted July 28, 2004.

T. 19 N., R. 18 E., accepted August 5, 2004.

T. 19 N., R. 18 E., accepted August 5, 2004.

T. 31 N., R. 11 W., accepted August 12, 2004.

T. 46 N., R. 5 E., accepted August 19, 2004.

T. 16 S., R. 38 E., accepted September 16, 2004.

T. 16 N., R. 5 E., accepted September 20, 2004.

T. 9 N., R. 20 E., accepted September 20, 2004.

T. 20 S., R. 31 E., accepted November 18, 2004.

T. 18 N., R. 10 W., accepted December 20, 2004.

T. 43 N., R. 17 E., accepted December 20, 2004.

T. 30 N., R. 14 E., accepted March 4, 2005.

T. 25 S., R. 6 E., accepted March 17, 2005.

T. 35 N., R. 1 W., accepted April 11, 2005.

T. 40 N., R. 4 W., accepted April 11, 2005.

T. 34 N., R. 15 E., accepted June 2, 2005.

T. 34 N., R. 16 E., accepted June 2, 2005.

T. 35 N., R. 16 E., accepted June 2, 2005.

T. 46 N., R. 5 E., accepted July 13, 2005.

T. 29 S., R. 22 E., accepted July 14, 2005.

T. 16 N., R. 10 E., accepted July 28, 2005.

T. 40 N., R. 17 E., accepted July 28, 2005.

T. 31 S., R. 46 E., accepted August 4, 2005.

T. 31 S., R. 47 E., accepted August 4, 2005.

T. 32 S., R. 47 E., accepted August 4, 2005.

T. 32 N., R. 12 W., accepted August 4, 2005.

T. 8 S., R. 33 E., accepted August 8, 2005.

T. 42 N., R. 3 E., accepted August 11, 2005.

T. 42 N., R. 12 E., accepted August 24, 2005.

T. 46 N., R. 16 E., accepted August 29, 2005.

T. 41 N., R. 3 E., accepted August 31, 2005.

T. 47 N., R. 16 E., accepted August 31, 2005.

T. 18 N., R. 7 W., accepted September 13, 2005.

T. 37 N., R. 1 W., accepted September 13, 2005.

T. 10 S., R. 19 E., accepted September 14, 2005.

T. 8 S., R. 29 E., accepted September 16, 2005.

T. 27 S., R. 36 E., accepted September 21, 2005.

T. 45 N., R. 7 W., accepted September 29, 2005.

T. 8 S., R. 23 E., accepted September 30, 2005.

T. 9 N., R. 16 E., accepted January 11, 2006.

T. 21 S., R. 42 E., accepted January 12, 2006.

T. 30 N., R. 11 E., accepted February 6, 2006.

T. 26 N., R. 17 E., accepted February 7, 2006.

T. 38 N., R. 11 E., accepted February 16, 2006.

T. 26 S., R. 33 E., accepted April 17, 2006.

T. 29 S., R. 12 E., accepted April 17, 2006.

T. 33 N., R. 5 W., accepted May 2, 2006.

T. 32 S., R. 23 E., accepted May 5, 2006.

T. 32 S., R. 24 E., accepted May 10, 2006.

T. 30 N., R. 12 E., accepted June 6, 2006.

T. 4 S., R. 31 E., accepted June 16, 2006.

T. 2 N., R. 18 E., accepted July 31, 2006.

T. 22 S., R. 38 E., accepted August 8, 2006.

T. 12 S., R. 2 E., accepted August 21, 2006.

T. 1 S., R. 1 W., accepted August 21, 2006.

T. 30 N., R. 12 E., accepted September 18, 2006.

T. 26 N., R. 16 E., accepted September 20, 2006.

T. 9 S., R. 34 E., accepted September 21, 2006.

T. 8 N., R. 17 E., accepted September 26, 2006.

T. 8 N., R. 18 E., accepted September 26, 2006.

T. 8 N., R. 19 E., accepted September 26, 2006.

T. 9 N., R. 17 E., accepted September 26, 2006.

T. 9 N., R. 18 E., accepted September 26, 2006.

T. 7 S., R. 20 E., accepted October 10, 2006.

T. 18 N., R. 10 W., accepted October 10, 2006.

T. 30 N., R. 17 E., accepted November 7, 2006.

T. 26 S., R. 34 E., accepted November 16, 2006.

T. 4 S., R. 29 E., accepted November 20, 2006.

T. 22 S., R. 38 E., accepted November 22, 2006.

T. 19 S., R. 37 E., accepted December 4, 2006.

T. 8 S., R. 32 E., accepted December 14, 2006.

T. 21 N., R. 15 W., accepted December 28, 2006.

T. 23 N., R. 15 E., accepted January 10, 2007.

T. 21 N., R. 8 W., accepted February 6, 2007.

T. 35 N., R. 4 E., accepted April 19, 2007.

T. 3 S., R. 27 E., accepted April 27, 2007.

T. 10 S., R. 23 E., accepted May 9, 2007.

T. 4 N., R. 18 E., accepted May 15, 2007.

T. 10 N., 17 E., accepted June 11, 2007.

T. 11 N., R. 10 E., accepted June 11, 2007.

T. 42 N., R. 11 E., accepted July 12, 2007.

T. 3 S., R. 27 E., accepted August 15, 2007.

T. 18 N., R. 10 W., accepted August 23, 2007.

T. 5 S., R. 30 E., accepted, August 27, 2007.

T. 43 N., R. 13 E., accepted August 27, 2007.

T. 22 S., R. 30 E., accepted September 13, 2007.

T. 22 S., R. 29 E., accepted, September 17, 2007.

T. 4 N., R. 14 E., accepted September 25, 2007.

T. 8 S., R. 21 E., accepted October 1, 2007.

T. 13 S., R. 34 E., accepted October 3, 2007.

T. 13 N., R. 9 E., accepted October 11, 2007.

T. 2 S., R. 32 E., accepted November 5, 2007.

T. 1 N., R. 29 E., accepted November 19, 2007.

T. 1 N., R. 30 E., accepted November 19, 2007.

T. 1 S., R. 29 E., accepted November 20, 2007.

T. 4 N., R. 17 E., accepted December 4, 2007.

T. 16 S., R. 28 E., accepted December 19, 2007.

T. 33 N., R. 6 W., accepted January 24, 2008.

T. 36 N., R. 6 E., accepted January 24, 2008.

T. 27 S., R. 10 E., accepted March 4, 2008.

T. 10 N., R. 8 W., accepted March 7, 2008.

T. 12 N., R. 17 W., accepted April 1, 2008.

T. 24 N., R. 13 W., accepted April 3, 2008.

T. 24 N., R. 14 W., accepted April 3, 2008.

T. 6 S., R. 1 W., accepted July 8, 2008.

T. 38 N., R. 11 E., accepted August 20, 2008.

T. 42 N., R. 10 E., accepted August 20, 2008

T. 24 N., R. 13 W., accepted August 28, 2008

T. 37 N., R. 14 E., accepted September 9, 2008.

T. 14 N., R. 9 W., accepted October 11, 2009.

T. 9 S., R. 22 E., accepted November 24, 2009.

T. 7 S., R. 30 E., accepted December 17, 2009.

T. 1 N., R. 16 E., accepted January 22, 2009.

T. 29 S., R. 41 E., accepted February 25, 2009.

T. 23 N., R. 12 W., accepted March 3, 2009.

T. 2 N., R. 16 E., accepted March 23, 2009.

T. 46 N., R. 16 E., accepted April 29, 2009.

T. 45 N., R. 16 E., accepted April 30, 2009.

T. 26 S., R. 33 E., accepted May 7, 2009.

T. 25 S., R. 33 E., accepted May 7, 2009.

T. 25 S., R. 33 E., accepted May 7, 2009.

T. 37 N., R. 15 E., accepted May 18, 2009.

T. 38 N., R. 8 E., accepted September 9, 2009.

T. 38 N., R. 9 E., accepted September 9, 2009.

T. 31 N., R. 5 W., accepted September 29, 2009.

T. 16 N., R. 10 E., accepted October 6, 2009.

T. 25 N., R. 17 E., accepted December 8, 2009.

T. 25 S., R. 9 E., accepted January 7, 2010.

T. 21 S., R. 31 E., accepted January 8, 2010.

T. 29 S., R. 20 E., accepted January 25, 2010.

T. 21 S., R. 29 E., accepted January 26, 2010.

T. 21 S., R. 30 E., accepted January 26, 2010.

T. 21 S., R. 31 E., accepted January 26, 2010.

T. 22 S., R. 29 E., accepted January 26, 2010.

T. 22 S., R. 30 E., accepted January 26, 2010.

T. 22 S., R. 31 E., accepted January 26, 2010.

T. 23 S., R. 31 E., accepted January 26, 2010.

T. 6 N., R. 7 E., accepted January 27, 2010.

T. 33 N., R. 6 W., accepted March 26, 2010.

T. 18 S., R. 11 E., accepted April 13, 2010.

T. 10 N., R. 17 E., accepted June 9, 2010.

T. 3 S., R. 19 E., accepted June 15, 2010.

T. 33 N., R. 5 W., accepted June 18, 2010.

T. 15 N., R. 12 W., accepted June 29, 2010.

San Bernardino Meridian, California

T. 6 S., R. 8 E., accepted July 31, 2002.

T. 5 S., R. 8 E., accepted August 22, 2002.

T. 5 N., R. 24 E., accepted November 12, 2002.

T. 5 N., R. 25 E., accepted November 12, 2002.

T. 6 N., R. 24 E., accepted November 12, 2002.

T. 1 S., R. 19 W., accepted March 14, 2003.

T. 11 S., R. 22 E., accepted March 20, 2003.

T. 9 S., R. 22 E., accepted March 20, 2003.

T. 2 S., R. 18 W., accepted March 28, 2003.

T. 3 N., R. 12 W., accepted April 25, 2003.

T. 10 N., R. 32 W., accepted May 29, 2003.

T. 5-6 S., R. 1-2 E., accepted June 18, 2003.

T. 5 S., R. 2 E., accepted June 18, 2003.

T. 17 S., R. 4 W., accepted August 20, 2003.

T. 17 S., R. 1 E., accepted September 12, 2003.

T. 1 S., R. 15 W., accepted September 29, 2003.

T. 1 S., R. 19 W., accepted October 29, 2003.

T. 1 N—1 S., R. 18 W., accepted October 29, 2003.

T. 1 S., R. 18 W., accepted December 31, 2003.

T. 11 N., R. 28 W., accepted January 22, 2004.

T. 26 N., R. 5 E., accepted February 27, 2004.

T. 27 N., R. 5 E., accepted February 27, 2004.

T. 14 N., R. 13 E., accepted April 27, 2004.

T. 12 S., R. 11 E., accepted August 5, 2004.

T. 3 N., R. 2 E., accepted August 13, 2004.

T. 3 N., R. 3 E., accepted August 13, 2004.

T. 1 S., R. 19 W., accepted September 24, 2004.

T. 4 S., R. 5 E., accepted January 31, 2005.

T. 14 N., R. 13 E., accepted March 16, 2005.

T. 15 N., R. 8 E., accepted March 16, 2005.

T. 4 S., R. 5 E., accepted March 31, 2005.

T. 4 S., R. 5 E., accepted April 11, 2005.

T. 10 S., R. 26 W., accepted April 27, 2005.

T. 11 S., R. 22 E., accepted May 5, 2005.

T. 6 S., R. 4 W., accepted May 10, 2005.

T. 1 N., R. 1 W., accepted May 12, 2005.

T. 12 N., R. 1 E., accepted August 4, 2005.

T. 15 N., R. 8 E., accepted August 4, 2005.

T. 16 N., R. 7 E., accepted August 4, 2005.

T. 9-10 S., R. 4 E., accepted August 18, 2005.

T. 7 S., R. 4 W., accepted August 23, 2005.

T. 6 S., R. 4 W., accepted August 24, 2005.

T. 7 S., R. 9 E., accepted January 10, 2006.

T. 7 S., R. 8 E., accepted January 11, 2006.

T. 18 S., R. 2 E., accepted January 18, 2006.

T. 5 S., R. 4 E., accepted February 6, 2006.

T. 7 S., R. 8 E., accepted February 8, 2006.

T. 4 S., R.4 E., accepted June 5, 2006.

T. 5 S., R. 4 E., accepted July 11, 2006.

T. 16 S., R. 1 E., accepted September 27, 2006.

T. 3 S., R. 5 E., accepted October 10, 2006.

T. 10 N., R. 25 W., accepted October 10, 2006.

T. 7 S., R. 8 E., accepted November 28, 2006.

T. 9 S., R. 2 W., accepted December 7, 2006.

T. 26 N., R. 5 E., accepted March 6, 2007.

T. 1 S., R. 4 E., accepted March 13, 2007.

T. 3 S., R. 5 E., accepted March 19, 2007.

T. 16 S., R. 6 E., accepted April 24, 2007.

T. 9 N., R. 20 W., accepted May 3, 2007.

T. 10 S., R. 4 E., accepted June 1, 2007.

T. 15 S., R. 16 E., accepted June 14, 2007.

T. 14 N., R. 13 E., accepted June 25, 2007.

T. 4 S., R. 5 E., accepted June 26, 2007.

T. 3 S., R. 5 E., accepted August 16, 2007.

T. 6 S., R. 22 E., accepted September 17, 2007.

T. 4 S., R. 5 E., accepted September 24, 2007.

T. 9 N., R. 13 W., accepted September 26, 2007.

T. 10 N., R. 36 W., accepted February 7, 2008.

T. 2 N., R. 4-5 W., accepted March 21, 2008.

T. 5 S., R. 4 E., accepted May 8, 2008.

T. 9 N., R. 13 W., accepted May 8, 2008.

T. 14 S., R. 12 E., accepted May 29, 2008.

T. 16 S., R. 22 E., accepted September 19, 2008.

T. 14 S., R. 2 E., accepted September 22, 2008.

T. 14 S., R. 2 E., accepted November 4, 2009.

T. 6 S., R. 13 E., accepted March 2, 2009.

T. 6 S., R. 12 E., accepted March 2, 2009.

T. 5 S., R. 13 E., accepted March 2, 2009.

T. 5 S., R. 12 E., accepted March 2, 2009.

T. 5 S., R. 12 W., accepted December 16, 2009.

T. 5 S., R. 12 W., accepted December 17, 2009.

T. 3 S., R. 4 E., accepted March 23, 2010.

T. 10 N., R. 24 W., accepted May 19, 2010.

Authority: 43 U.S.C., Chapter 3.

Dated: July 16, 2010.
Lance J. Bishop,
Chief, Branch of Geographic Services.

[FR Doc. 2010-18729 Filed 7-29-10; 8:45 am]

BILLING CODE 4310-40-P